DEPARTMENT OF ENERGY

Federal Energy Regulatory Commission

Combined Notice of Filings #1

Take notice that the Commission received the following exempt wholesale generator filings:

Docket Numbers: EG15-7-000.

Applicants: Western Antelope Blue Sky Ranch A LLC.

Description: Notice of Self-Certification of Exempt Wholesale Generator Status of Western Antelope Blue Sky Ranch A LLC.

Filed Date: 10/30/14.

Accession Number: 20141030-5020.

Comments Due: 5 p.m. ET 11/20/14.

Take notice that the Commission received the following electric rate filings:

Docket Numbers: ER15-230-000.

Applicants: GP Renewables & Trading, LLC.

Description: Initial rate filing per 35.12 GP Renewables & Trading, LLC Market Based Rate Tariff to be effective 11/21/2014.

Filed Date: 10/29/14.

Accession Number: 20141029-5163.

Comments Due: 5 p.m. ET 11/19/14.

Docket Numbers: ER15-231-000.

Applicants: Pacific Gas and Electric Company.

Description: § 205(d) rate filing per 35.13(a)(2)(iii): Revision to Pine Flat and Redesignation of Midway Contract between PG&E and CDWR to be effective 1/1/2015.

Filed Date: 10/29/14.

Accession Number: 20141029-5165.

Comments Due: 5 p.m. ET 11/19/14.

Docket Numbers: ER15-232-000.

Applicants: Southwest Power Pool, Inc.

Description: § 205(d) rate filing per 35.13(a)(2)(iii): 2415R3 Kansas Municipal Energy Agency NITSA and NOA to be effective 8/1/2014.

Filed Date: 10/29/14.

Accession Number: 20141029-5166.

Comments Due: 5 p.m. ET 11/19/14.

Docket Numbers: ER15-233-000.

Applicants: Northern States Power Company, a Minnesota corporation.

Description: § 205(d) rate filing per 35.13(a)(2)(iii): 2014-10-29 NSP-EGF-Amnd Trans Fac-483-0.0.0 to be effective 1/1/2015.

Filed Date: 10/29/14.

Accession Number: 20141029-5172.

Comments Due: 5 p.m. ET 11/19/14.

Docket Numbers: ER15-234-000.

Applicants: Duke Energy Carolinas, LLC, Duke Energy Florida, Inc.

Description: Joint Application of Duke Energy Carolinas, LLC on behalf of Duke Energy Florida, Inc. to recover 50 percent of the CWIP costs associated with 23 new transmission projects through formula rate for OATT service.

Filed Date: 10/29/14.

Accession Number: 20141029-5179.

Comments Due: 5 p.m. ET 11/19/14.

Docket Numbers: ER15-235-000.

Applicants: Canandaigua Power Partners, LLC.

Description: Baseline eTariff Filing per 35.1: Filing of Shared Facilities Agreement to be effective 12/30/2014.

Filed Date: 10/30/14.

Accession Number: 20141030-5064.

Comments Due: 5 p.m. ET 11/20/14.

Docket Numbers: ER15-236-000.

Applicants: Northern States Power Company, a Minnesota corporation.

Description: § 205(d) rate filing per 35.13(a)(2)(iii): 2014-10-30 NSP-MSHL-NOC 275, 513-0.1.0 to be effective 12/31/2014.

Filed Date: 10/30/14.

Accession Number: 20141030-5072.

Comments Due: 5 p.m. ET 11/20/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 30, 2014.
Nathaniel J. Davis, Sr.,
Deputy Secretary.

[FR Doc. 2014-26566 Filed 11-7-14; 8:45 am]

BILLING CODE 6717-01-P